DEPARTMENT OF THE INTERIOR

Fish and Wildlife Service

50 CFR Part 17

RIN 1018-AG13

Endangered and Threatened Wildlife and Plants; Extension of Public Comment Period and Notice of Public Hearing on Proposed Critical Habitat for Wintering Piping Plovers

AGENCY: Fish and Wildlife Service, Interior.

ACTION: Proposed Rule; Extension of public comment period and notice of public hearing.

SUMMARY: We, the U.S. Fish and Wildlife Service, provide notice that the public comment period on the proposed rule to designate critical habitat for wintering piping plovers (Charadrius melodius) is hereby extended, and that we will hold an additional public hearing on the proposal. Comments previously submitted during the comment period need not be resubmitted as they will be incorporated into the public record and will be fully considered in the final determination on the proposal.

DATES: The original comment period is scheduled to close on October 30, 2000. The comment period is hereby extended until November 24, 2000. We will hold a public hearing on the proposal on November 14, 2000. An informal public meeting will precede the hearing, beginning at 5:30 PM. The public hearing will run from 7 to 9 PM. Comments from all interested parties must be received by the closing date. Any comments that are received after the closing date may not be considered in the final decision on this proposal.

ADDRESSES: The public hearing will be held in the Grand Ballroom at the Radisson Hotel, 500 Padre Boulevard, South Padre Island, Texas 78597. Written comments may be submitted to the Field Supervisor, Ecological Services Field Office, c/o TAMUCC, Box 338, 6300 Ocean Drive, Corpus Christi, Texas 78412; by facsimile at (361) 994-8262; or by email at winterplovercomments@fws.gov. Comments and materials received will be available for public inspection, by appointment, during normal business hours at the above address.

FOR FURTHER INFORMATION CONTACT: Allan Strand, Acting Field Supervisor, at the above address (telephone 361/994-9005).

SUPPLEMENTARY INFORMATION:

Background

The piping plover (Charadrius melodius) is a small North American shorebird that breeds in the Great Plains, Great Lakes, and Atlantic Coast states, and winters along the Atlantic and Gulf coasts. The piping plover on its wintering areas is listed as a threatened species under the Endangered Species Act of 1973, as amended.

The U.S. Fish and Wildlife Service proposed critical habitat for wintering the piping plovers on July 6, 2000 (65 FR 41781). The proposal includes 146 areas along the coasts of North Carolina, South Carolina, Georgia, Florida, Alabama, Mississippi, Louisiana, and Texas. This includes approximately 2,734 kilometers (1,699 miles) of shoreline along the Gulf and Atlantic coasts and along margins of interior bays, inlets, and lagoons.

Section 4(b)(2) of the Endangered Species Act requires that we designate or revise critical habitat based upon the best scientific and commercial data available and after taking into consideration the economic impact, and any other relevant impact, of specifying any particular area as critical habitat. We may exclude an area from critical habitat if we determine that the benefits of excluding the area outweigh the benefits of including the area as critical habitat, provided such exclusion will not result in the extinction of the species. Consequently, we have prepared and made available a draft economic analysis concerning the proposed critical habitat designation, which is available for review and comment at the above Internet and mailing addresses.

Public Comments Solicited

We solicit comments on all aspects of the critical habitat proposal, including the draft economic analysis. Our final determination on the proposed critical habitat will take into consideration comments and any additional information received by the date specified above. All previous comments and information submitted during the comment period need not be resubmitted. The comment period is extended to November 24, 2000. Written comments may be submitted to the Field Supervisor at the above address.

The Endangered Species Act requires that at least one public hearing be held on this proposed rule if requested. Given the interest this proposal has generated, we have already held 10 public hearings throughout the proposed critical habitat range. However, significant public interest in the proposal has led us to schedule another public hearing (see DATES and ADDRESSES).

Author

The primary author of this notice is Steve Spangle, U.S. Fish and Wildlife Service, P.O. Box 1306, Albuquerque, New Mexico 87103.

Authority: The authority for this action is the Endangered Species Act of 1973 (16 U.S.C. 1531 et seq.).

Geoffrey L. Haskett,
Regional Director, Region 2, Fish and Wildlife Service.

[FR Doc. 00-27628 Filed 10-26-00; 8:45 am]

BILLING CODE 4310-55-U